DEPARTMENT OF TRANSPORTATION

Federal Aviation Administration

14 CFR Part 71

[Airspace Docket No. 01-AEA-19FR]

Amendment to Class E Airspace; Pittsburgh, PA

AGENCY: Federal Aviation Administration (FAA), DOT.

ACTION: Final rule.

SUMMARY: This action amends Class E airspace at Pittsburgh, PA. This action is necessary to insure continuous coverage for Instrument Flight Rules (IFR) operations to the Pittsburgh International and Allegheny County Airports. The affected airspace will be depicted on aeronautical charts for pilot reference.

EFFECTIVE DATE: 0901 UTC November 1, 2001.

FOR FURTHER INFORMATION CONTACT: Mr. Francis Jordan, Airspace Specialist, Airspace Branch, AEA-520, Air Traffic Division, Eastern Region, Federal Aviation Administration, 1 Aviation Plaza, Jamaica, New York 11434-4809, telephone: (718) 553-4521.

SUPPLEMENTARY INFORMATION:

History

On July 24, 2001 a document proposing to amend Part 71 of the Federal Aviation Regulations (14 CFR Part 71) by expanding Class E airspace extending upward from 700 feet Above Ground Level (AGL) at Greater Pittsburgh International Airport, and Allegheny County Airport, PA was published in the Federal Register (66 FR 38386-38387). Interested parties were invited to participate in this rulemaking proceeding by submitting written comments on the proposal to the FAA. No comments to the proposal were received. The rule is adopted as proposed. The coordinates for this airspace docket are based on North American Datum 83. Class E airspace areas designations for airspace extending upward from 700 feet or more above the surface of the earth are published in Paragraph 6005 of FAA Order 7400.9J, dated August 31, 2001 and effective September 16, 2001. The Class E airspace designation listed in this document will be published in the order.

The Rule

This amendment to Part 71 of the Federal Aviation Regulations (14 CFR Part 71) provides controlled Class E airspace extending upward from 700 feet above the surface of the earth for aircraft conducting IFR operations at Greater Pittsburgh International Airport and Allegheny County Airport, Pittsburgh, PA.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation it is certified that this rule will not have significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—[AMENDED]

1. The authority citation for 14 CFR Part 71 continues to read as follows:

Authority: 149 U.S.C. 106(g), 40103, 40113, 40120; E.O. 10854, 24 FR 9565, 3.

2. The incorporation by reference in 14 CFR 71.1 of Federal Aviation Administration Order 7400.9J, Airspace Designations and Reporting Points, dated August 31, 2001, and effective September 16, 2001, is amended as follows:

Paragraph 5000 Class E airspace areas extending upward from 700 feet or more above the surface of the earth.

AEA PA E5, Pittsburgh, PA [REVISED]

Greater Pittsburgh International Airport

(lat. 40° 29′ 29″N., long. 80° 13′ 57″W.)

Allegheny County Airport

(lat. 40° 21′ 16″N., long. 79° 55′ 48″W.

STARG OM

(lat. 40° 29′ 15″N., long. 80° 22′ 14″W.)

That airspace extending upward from 700 feet above the surface within a 7.9 mile radius of Greater Pittsburgh International Airport and within 3.1 miles each side of the Greater Pittsburgh International Airport Runway 10R localizer course extending from the 7.9 mile radius to 5.7 miles west of the STARG OM and within a 8.5 mile radius of Allegheny County Airport.

Issued in Jamaica, New York on September 10, 2001.
F.D. Hatfield,
Manager, Air Traffic Division, Eastern Region.

[FR Doc. 01-23942 Filed 9-27-01; 8:45 am]

BILLING CODE 4910-13-M